DEPARTMENT OF ENERGY

Federal Energy Regulatory Commission

[Docket No. CP02-025-000]

Copiah County Storage Company; Notice of Route and Site Review

January 3, 2002.

On January 16, 2002, the staff of the Office of Energy Projects (OEP) will conduct a site review of the proposed Copiah Storage Project. The Copiah Storage Project facilities are proposed for construction by Copiah County Storage Company (Copiah). The proposed compressor site and natural gas storage cavern site, located in Copiah County, Mississippi, will be reviewed on January 16, 2002. Representatives of Copiah will accompany the OEP staff.

Anyone interested in attending the route and site review or obtaining further information may contact the Commission's Office of External Affairs at (202) 208-1088. Attendees must provide their own transportation.

Linwood A. Watson, Jr.,
Acting Secretary.

[FR Doc. 02-463 Filed 1-8-02; 8:45 am]

BILLING CODE 6717-01-P